INTERNATIONAL TRADE COMMISSION

[Investigation Nos. 701-TA-487 and 731-TA-1198 (Final)]

Steel Wire Garment Hangers From Vietnam; Determinations

On the basis of the record ¹ developed in the subject investigations, the United States International Trade Commission (Commission) determines, pursuant to sections 705(b) and 735(b) of the Tariff Act of 1930 (19 U.S.C. 1671d(b)) and (19 U.S.C. 1673d(b)) (the Act), that an industry in the United States is materially injured by reason of imports of steel wire garment hangers from Vietnam, provided for in subheading 7326.20.00 of the Harmonized Tariff Schedule of the United States, that the U.S. Department of Commerce has determined are subsidized and sold in the United States at less than fair value (“LTFV”).²

¹ The record is defined in sec. 207.2(f) of the Commission's Rules of Practice and Procedure (19 CFR 207.2(f)).

² All six Commissioners voted in the affirmative. The Commission also finds that imports subject to Commerce's affirmative critical circumstances determinations are not likely to undermine seriously the remedial effects of the countervailing and antidumping duty orders on steel wire garment hangers from Vietnam.

Background

The Commission instituted these investigations effective December 29, 2011, following receipt of a petition filed with the Commission and Commerce by M&B Metal Products Company, Inc., Leeds, AL; Innovative Fabrication LLC/Indy Hanger, Indianapolis, IN; and US Hanger Company LLC, Gardena, CA. The final phase of the investigations was scheduled by the Commission following notification of preliminary determinations by Commerce that imports of steel wire garment hangers from Vietnam were subsidized within the meaning of section 703(b) of the Act (19 U.S.C. 1671b(b)) and dumped within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on August 20, 2012 (77 FR 50160) and on August 22, 2012 (77 FR 50713, corrected). The hearing was held in Washington, DC, on October 24, 2012, and all persons who requested the opportunity were permitted to appear in person or by counsel.

The Commission transmitted its determinations in these investigations to the Secretary of Commerce on January 28, 2013. The views of the Commission are contained in USITC Publication 4371 (January 2013), entitled Steel Wire Garment Hangers from Vietnam: Investigation Nos. 701-TA-487 and 731-TA-1198 (Final).

Issued: January 28, 2013.
By order of the Commission.
Lisa R. Barton,
Acting Secretary to the Commission.

[FR Doc. 2013-02144 Filed 1-31-13; 8:45 am]

BILLING CODE 7020-02-P